DEPARTMENT OF DEFENSE

Department of the Air Force

Notice of Intent To Prepare an Environmental Assessment for Disposal and Reuse of Buckley Annex, Colorado

AGENCY: Department of the Air Force, Department of Defense.

ACTION: Notice.

SUMMARY: The United States Air Force is issuing this notice to advise the public that the Air Force intends to prepare an Environmental Assessment (EA) in accordance with the National Environmental Policy Act of 1969 (NEPA) to assess the potential environmental impacts of the disposal and reuse of Buckley Annex, Colorado. This notice signifies the beginning of the Air Force's NEPA “scoping” and invites interested members of the public to participate in the NEPA process.

The Council on Environmental Quality (CEQ) regulations at 40 CFR 1501.7 require an early and open process for determining the scope of issues to be addressed in the environmental analysis and for identifying the significant issues related to the proposed action. The scope identifies the range of actions, alternatives, and impacts to be considered in detail in the environmental analysis. This process of soliciting public input is called “scoping.” Scoping ensures that any significant issues are identified early and studied properly, and that minor issues do not consume the agency's time and effort.

Site Description. The Buckley Annex property consists of about 72 acres located just west of the former Lowry Air Force Base in Denver, CO. The land is improved with 6 buildings containing nearly 640,000 square feet. Environmental information about this site can be found in the environmental condition of property documents at the following Web sites:

http://www.airforcebrac2005.org/Buckley%20Docs2.htm.

http://www.afcee.brooks.af.mil/products/ecp/default.asp.

Need for the Proposed Action. In accordance with the Base Closure and Realignment Act amendments contained in Title XXX of the National Defense Authorization Act for Fiscal Year 2002 (Pub. L. 107-107), the Secretary of Defense submitted a consolidated Department of Defense (DoD) list of recommended actions to an independent commission appointed by the President and confirmed by the Senate. The 2005 Defense Base Closure and Realignment Commission (Commission) evaluated the recommendations and sent its findings to the President, who forwarded the recommendations to Congress on September 23, 2005. The Base Closure Act provides that, unless disapproved by Congress within a specified period, the recommendations are to be implemented. In the absence of Congressional disapproval, the Commission's recommendations became binding on November 9, 2005. Action with respect to Buckley Annex is being implemented as required by the Base Closure Act.

In its 2005 report to the President, the Commission recommended closure of the Buckley Annex. Pursuant to that recommendation, all Air Force missions at Buckley Annex must cease or be relocated. Following closure, the property will be excess to the Air Force needs. Accordingly, the Air Force proposes to dispose of its real property interests at the Buckley Annex.

The Base Closure Act requires the Air Force to treat the reuse plan of the local redevelopment authority as the Proposed Action for purposes of the environmental analysis if the plan is approved by the Secretary of Housing and Urban Development (HUD) as meeting the requirements of the Base Closure Act. The redevelopment authority for the Buckley Annex property is the Lowry Redevelopment Authority. After conducting considerable public outreach, the redevelopment authority developed a proposed reuse plan and has submitted the plan to HUD for review and approval. HUD has not issued a final decision on whether the plan fulfills the requirements in the Base Closure Act.

Proposed Action. As explained above, if the redevelopment authority's reuse plan is approved by HUD, the Air Force Proposed Action for purposes of NEPA environmental assessment will be the reuse plan. The redevelopment authority's reuse plan, dated February 2008, can be found at the following Web site: http://www.lowry.org. The reuse plan involves the demolition of all installation facilities to allow construction of mixed use commercial/residential (800 low- and medium-density residential units) with components involving a boulevard, open space, park, and storm water detention.

Alternatives to the Proposed Action. The Higher Density Residential Alternative involves the demolition of all installation facilities to allow construction of a higher density residential use with commercial development and associated outdoor recreation areas and roadways.

The Lower Density Residential Alternative involves the demolition of all installation facilities to allow construction of a lower density residential use with commercial development and associated outdoor recreation areas and roadways.

The Facility Reuse Alternative involves the retention of Building 444 and associated Building 445 for reuse as an office complex. Other facilities on the property would be demolished to allow for recreation and open space uses.

The No-Action Alternative involves the Air Force retaining the Buckley Annex property and maintaining it in caretaker status.

Scope of the EA. The EA will address the potential environmental impacts of disposal of the property to public or private entities. In analyzing the environmental impacts of property disposal, the Air Force will consider the reasonably foreseeable environmental impacts associated with the likely reuse of the property, as well as the potential environmental impacts of reasonable reuse alternatives. Although NEPA does not require publication of a notice-of-intent (NOI) to prepare an EA or formal scoping process, it encourages public input opportunities. The Air Force invites full public participation in the NEPA process to promote open communication and better decision-making. All persons and organizations that have a potential interest in the Proposed Action, including minority, low-income, disadvantaged, and Native American groups are urged to participate in the NEPA environmental analysis process. To ensure sufficient time to adequately consider public comments concerning environmental issues and disposal alternatives to be included in the EA, the Air Force recommends that comments and reuse proposals be forwarded to the address listed below at the earliest possible date.

NEPA and Scoping Process. Public participation opportunities with respect to the Proposed Action and this EA are guided by the provisions of 32 Code of Federal Regulations (CFR) Part 989, Environmental Impact Analysis Process (EIAP) for Air Force actions. If during the environmental review process the Air Force finds that no significant adverse environmental impacts are associated with the Proposed Action, then a Finding of No Significant Impact (FONSI) would be issued.

The draft EA and a draft Finding of No Significant Impact, if appropriate, will be made available for a 30-day comment period. During this time, the Air Force will consider any comments submitted by agencies, organizations, or members of the public on the Proposed Action, the draft EA, or the draft FONSI. The Air Force is issuing this NOI to facilitate the environmental review process by soliciting scoping comments in advance of the 30-day period for submission of written comments on the EA. At the conclusion of the comment period, the Air Force may, if appropriate, execute the FONSI and proceed with the Proposed Action.

However, if the Air Force finds that significant adverse environmental impacts would be associated with the proposed redevelopment, an Environmental Impact Statement (EIS) would be prepared. In that event, the Air Force would provide a forum for public officials and the community to provide information and comments; a scoping meeting would be held in Denver, Colorado, probably during the months of October or November 2008. Notice of the time and location of this meeting would be provided at a later date, and publicized in the community. The purpose of this meeting would be to help identify issues that need to be assessed and discussed in the EIS. During this meeting, the Air Force would discuss the proposal to close and dispose of Buckley Annex, describe the process involved in preparing an EIS, and ask your help in identifying alternative uses for Buckley Annex and any significant environmental impacts that may result from its closure and disposal. In soliciting disposal and reuse alternatives, the Air Force would consider reasonable alternatives offered by any federal, state, or local government agency, and any federally sponsored or private entity or individual. The resulting EIS would be considered in making disposal decisions documented in the Air Force's Final Disposal Plan and Record of Decision.

FOR FURTHER INFORMATION CONTACT: Direct written comments or requests for further information concerning the Buckley Annex disposal and reuse EA to: Robert L. Lopez, HQ AFCEE/BC, 3300 Sidney Brooks, Brooks City-Base, Texas 78235-5112, 210-536-4508. e-mail: Robert.lopez@brooks.af.mil.

Bao-Anh Trinh,
Air Force Federal Register Liaison Officer.

[FR Doc. E8-11114 Filed 5-16-08; 8:45 am]

BILLING CODE 5001-05-P